GENERAL SERVICES ADMINISTRATION

41 CFR Chapter 301

[FTR Amendment 105]

RIN 3090-AH62

Federal Travel Regulation; Maximum Per Diem Rates

AGENCY: Office of Governmentwide Policy, GSA.

ACTION: Final rule.

SUMMARY: To improve the ability of the per diem rates to meet the lodging demands of Federal travelers to high cost travel locations, the General Services Administration (GSA) has integrated the contracting mechanism of the new Federal Premier Lodging Program (FPLP) into the per diem rate-setting process. An analysis of FPLP contracting actions and the lodging rate survey data reveals that the maximum per diem rate for the State of Maryland, city of Baltimore including Baltimore County, and Lexington Park/Leonardtown/Lusby, including St. Mary's and Calvert Counties; and the State of Tennessee, city of Memphis including Shelby County, should be increased; and the maximum per diem rate for State of Alabama, city of Montgomery, including Montgomery County, should be decreased to provide for the reimbursement of Federal employees' lodging expenses covered by the per diem. This final rule increases the maximum lodging amounts in the prescribed areas.

EFFECTIVE DATE: May 15, 2002.

FOR FURTHER INFORMATION CONTACT: Joddy P. Garner, Office of Governmentwide Policy, Travel Management Policy, at 202-501-4857.

SUPPLEMENTARY INFORMATION:

A. Background

In the past, properties in high cost travel areas have been under no obligation to provide lodging to Federal travelers at the prescribed per diem rate. Thus, GSA established the FPLP to contract directly with properties in high cost travel markets to make available a set number of rooms to Federal travelers at contract rates. FPLP contract results along with the lodging survey data are integrated together to determine reasonable per diem rates that more accurately reflect lodging costs in these areas. In addition, the FPLP will enhance the Government's ability to better meet its overall room night demand, and allow travelers to find lodging close to where they need to conduct business. After an analysis of this additional data, the maximum lodging amounts are being changed in Montgomery, Alabama; Memphis, Tennessee; Baltimore, Maryland; and Lexington Park/Leonardtown/Lusby, Maryland.

B. Executive Order 12866

GSA has determined that this final rule is not a significant regulatory action for the purposes of Executive Order 12866 of September 30, 1993.

C. Regulatory Flexibility Act

This final rule is not required to be published in the Federal Register for notice and comment; therefore, the Regulatory Flexibility Act, 5 U.S.C. 601 et seq., does not apply.

D. Paperwork Reduction Act

The Paperwork Reduction Act does not apply because the proposed revisions do not impose record keeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects 41 CFR Chapter 301

Government employees, Travel and transportation expenses.

For the reasons set forth in the preamble, under 5 U.S.C. 5701-5709, 41 CFR chapter 301 is amended as follows:

CHAPTER 301—TEMPORARY DUTY (TDY) TRAVEL ALLOWANCES

1. In Chapter 301, amend the table in Appendix A as follows:

a. At the entry for Montgomery, Alabama, including Montgomery County, the column entitled “Maximum lodging amount” is revised to read “57” and the column entitled “Maximum per diem rate” is revised to read “95”.

b. At the entry for Baltimore, Maryland, including Baltimore County, the column entitled “Maximum lodging amount” is revised to read “137” and the column entitled “Maximum per diem rate” is revised to read “179”.

c. At the entries for Lexington Park/Leonardtown/Lusby, Maryland, including St. Mary's and Calvert Counties, the column entitled “Maximum lodging amount” is revised to read “72” and the column entitled “Maximum per diem rate” is revised to read “106”.

d. At the entry for Memphis, Tennessee, city of Memphis, including Shelby County, the column entitled “Maximum lodging amount” is revised to read “75” and the column entitled “Maximum per diem rate” is revised to read “113”.

The revised pages containing the amendments to the table set forth above read as follows:

Appendix A to Chapter 301—Prescribed Maximum Per Diem Rates for CONUS

* * * * *

BILLING CODE 6820-14-P

* * * * *

Dated: May 16, 2002.
Stephen A. Perry,
Administrator of General Services.

[FR Doc. 02-13166 Filed 6-4-02; 8:45 am]

BILLING CODE 6820-14-C